DEPARTMENT OF STATE

Bureau of Consular Affairs

[Public Notice 4103]

Registration for the Diversity Immigrant (DV-2004) Visa Program

ACTION: Notice of registration for the Diversity Immigrant Visa Program.

This public notice provides information on how to apply for the DV 2004 Program. This notice is issued pursuant to 22 CFR 42.33(b)(2) which implements sections 201(a)(3), 201(e), 203(c) and 204(a)(1)(I) of the Immigration and Nationality Act, as amended, (8 U.S.C. 1151(a)(3) and (e), 1153(c), and 1154(a)(1)(I)).

Entry Procedures for Immigrant Visas To Be Made Available in the DV Category During Fiscal Year 2004

Entries for DV-2004 must be received at one of the Kentucky Consular Center Mailing Addresses listed in this Notice between noon on Monday, October 7, 2002 and noon on Wednesday, November 6, 2002. Entries received before or after these dates will be disqualified regardless of when they are postmarked. Entries mailed to any address other than the Kentucky Consular Center addresses listed in this notice will be disqualified.

How Are Visas Apportioned?

Visas are apportioned among six geographic regions with a greater number of visas going to regions with lower rates of immigration, and no visas going to countries sending more than 50,000 immigrants to the U.S. in the past five years. Within each of the six regions, no one country may receive more than seven percent of the available Diversity Visas in one year. By law, the U.S. Diversity Visa Program makes available a maximum of 55,000 each year. However, the Nicaraguan and Central American Relief Act (NACARA) stipulates that beginning as early as DV-99 and for as long as necessary, 5,000 of the 55,000 annually-allocated diversity visas will be made available for use under the NACARA Program. This reduction began in DV-1999 and remains in effect for DV-2004.

For DV-2004, natives of the following are not eligible to apply because they sent more than 50,000 immigrants to the United States in the previous five years:

Canada

China (mainland-born)

Colombia

Dominican Republic

El Salvador

Haiti

India

Jamaica

Mexico

Pakistan

Philippines

South Korea

United Kingdom (except Northern Ireland) and its dependent territories

Vietnam

(Persons born in Hong Kong SAR, Macau SAR and Taiwan are eligible.)

What Are the Requirements To Apply for the DV-2004 Visas?

Chargeability

To enter, an applicant must be able to claim nativity in an eligible country, and must meet either the education or training requirement of the DV program. Nativity in most cases is determined by the applicant's place of birth. However, if a person was born in an ineligible country but his/her spouse was born in an eligible country, such person can claim the spouse's country of birth rather than his/her own. Also, if a person was born in an ineligible country, but neither of his/her parents was born there or resided there at the time of the birth, such person may be able to claim nativity in one of the parents' country of birth.

Education or Training

To enter, an applicant must have either a high school education or its equivalent, defined in the U.S. as successful completion of a 12-year course of elementary and secondary education; or two years of work experience within the past five years in an occupation requiring at least two years of training or experience to perform. U.S. Department of Labor definitions, as indicated in the O*Net OnLine database, will apply. If a person does not meet these requirements, he/she should not submit an entry to the DV program.

Submitting an Entry

Only one entry may be submitted by or for each applicant during the registration period. Submission of more than one entry will disqualify the person. The applicant must personally sign the entry, in his/her native alphabet. Neither an initialed signature nor block printing of the applicant's name will be accepted and will result in the disqualification of the entry. Failure of the applicant to personally sign his/her own entry will result in disqualification.

Completing the Entry

There is no specific form for the entry. Failure to provide all of the information listed below will disqualify the applicant. Simply use a plain sheet of paper and type or clearly print in the English (Roman) alphabet (preferably in the order listed below):

1. Full name, with the last (surname/family) name underlined:

Examples: Public, Sara Jane (or) Lopez, Juan Antonio.

2. Date and place of birth:

Date: Day, Month, Year.

Example: 15 November 1961.

Place: City/Town, District/County/Province, Country.

Example: Munich, Bavaria, Germany.

The name of the country should be that which is currently in use for the place where the applicant was born (For example, Slovenia, rather than Yugoslavia; Kazakhstan rather than Soviet Union.)

3. The applicant's native country if different from country of birth:

If the applicant is claiming nativity in a country other than his/her place of birth, this must be clearly indicated on the entry. This information must match with what is put on the upper left corner of the entry envelope. (See “MAILING THE ENTRY” below.) If an applicant is claiming nativity through spouse or parent, please indicate this on the entry. (See “REQUIREMENTS” section for more information on this item.

4. Name, date and place of birth of the applicant's spouse and unmarried children who are under the age of 21 (other than children who are already U.S. citizens or lawful permanent residents). Include natural children, stepchildren, as well as all legally-adopted children. List spouse and children regardless of whether or not they reside with you and whether or not they will immigrate with you. (Failure to provide ALL of this information will disqualify the applicant.) Note: married children and children 21 years or older will not qualify for the DV Program.

5. Full mailing address:

This must be clear and complete, as any communications will be sent there. A telephone number is optional, but useful.

6. Photographs. Attach a recent photograph, either black and white or in color, of the applicant, spouse and each child.

If photos do not conform to the following specifications, the entry will be disqualified:

The photo must between 1½ by 1l/2 and 2 by 2 inches (37-50 mm) square in size, with the name and date of birth printed on the back of the applicant's, spouse's and child's photo.

The person photographed must be directly facing the camera. The head should not be tilted up, down or to the side and should cover about 50% of the area of the photo.

The person should be in front of a neutral, light-colored background.

The face must be in focus.

The person photographed may not wear a hat or dark glasses or other paraphernalia which detracts from the face.

Photos with the alien wearing head coverings or hats are only acceptable due to religious beliefs, and even then, may not obscure any portion of the face of the applicant.

Photos of applicants wearing tribal, military, airline or other headware not specifically religious in nature will not be accepted.

The photograph (not a photocopy) should be attached to the entry with clear tape—DO NOT use staples or paperclips, which can jam the mail processing equipment.

7. Signature: The entry will be disqualified if the entry is not personally signed by the applicant with the usual and customary signature in his/her native alphabet. Neither an initialed signature nor block printing of the applicant's name will be accepted.

BILLING CODE 4710-06-P

Mailing the Entry

Submit the entry by regular or airmail to the address matching the region of the applicant's country of nativity. Entries sent by express or priority mail, second day airmail, fax, hand, messenger, or any means requiring receipts or special handling will not be processed.

• The envelope must be between 6 and 10 inches (15 to 25 cm) long and 3½ and 4½ inches (9 to 11 cm) wide.

• Postcards are not acceptable.

• Envelopes inside express or oversized mail packets are not acceptable.

• In the upper left-hand corner of the envelope the applicant must write his/her country of nativity, followed by the applicant's name and full return address, even if both are the same.

Failure to provide this information will disqualify the entry.

Mailing address: The mailing addresses for the six regions are as follows:

Africa | (Includes all countries on the African continent and adjacent islands): | DV Program, Kentucky Consular Center, 1001 Visa Crest, Migrate, KY 41901-1000, USA.
Asia | (Extends from Israel to the Northern Pacific Islands, and includes Indonesia): | DV Program Kentucky Consular Center, 2002 Visa Crest, Migrate, KY 41902-2000, USA.
Europe | (Extends from Greenland to Russia, and includes all countries of the former USSR) | DV Program Kentucky Consular Center, 3003 Visa Crest, Migrate, KY 41903-3000, USA.
South America/Central America/Caribbean | (Extends from Central America (Guatemala) and the Caribbean nations to Chile.) | DV Program Kentucky Consular Center, 4004 Visa Crest, Migrate, KY 41904-4000, USA.
Oceania | (Includes Australia, New Zealand, Papua New Guinea and all countries and islands of the South Pacific) | DV Program Kentucky Consular Center, 5005 Visa Crest, Migrate, KY 41905-5000, USA.
North America | (Includes the Bahamas) | DV Program Kentucky Consular Center, 6006 Visa Crest, Migrate, KY 41906-6000, USA.

Selection

Every application received during the mail-in period and prepared in accordance with these instructions will have an equal random chance of being selected within its region. No outside service can legitimately improve an applicant's chances of being chosen or guarantee that an entry will win.

Important notice: In order to actually receive a visa, applicants selected in the random drawing must meet all eligibility requirements under U.S. law, including any applicable special processing requirements established in response to the events of September 11, 2001. These requirements may significantly increase the level of scrutiny required and time necessary for processing of applications for natives of some countries listed in this notice; particularly those where a higher level activity related to post-September 11 concerns has been indicated. These include, but are not limited to, countries identified as state sponsors of terrorism. Processing of applications and issuance of diversity visas to successful applicants and their eligible family members MUST occur by September 30, 2004. Family members may not obtain diversity visas to follow to join the applicant in the U.S. after this date. There is NO initial fee, other than postage required to enter the DV-2004 program. The use of an outside intermediary or assistance to prepare a DV-2004 entry is entirely at the applicant's discretion. Qualified entries received directly from applicants or through intermediaries have equal chances of being selected by computer. There is no advantage to mailing early, or mailing from any particular locale. However, more than one application per person will disqualify the person from registration.

Determining 2004 DV Countries

The Immigration and Naturalization Service (INS) determines the DV regional limits for each year according to a formula specified in section 203(c) of the Immigration and Nationality Act. Natives of the following countries are eligible for the 2004 DV Program:

Africa

Algeria

Angola

Benin

Botswana

Burkina Faso

Burundi

Cameroon

Cape Verde

Central African Republic

Chad

Comoros

Congo

Congo, Democratic Republic of the

Cote D'Ivoire (Ivory Coast)

Djibouti

Egypt

Equatorial Guinea

Eritrea

Ethiopia

Gabon

Gambia, The

Ghana

Guinea

Guinea-Bissau

Kenya

Lesotho

Liberia

Libya

Madagascar

Malawi

Mali

Mauritania

Mauritius

Morocco

Mozambique

Namibia

Niger

Nigeria

Rwanda

Sao Tome and Principe

Senegal

Seychelles

Sierra Leone

Somalia

South Africa

Sudan

Swaziland

Tanzania

Togo

Tunisia

Uganda

Zambia

Zimbabwe

Asia

Afghanistan

Bahrain

Bangladesh

Bhutan

Brunei

Burma

Cambodia

Hong Kong Special Administrative Region

Indonesia

Iran

Iraq

Israel

Japan

Jordan

Kuwait

Laos

Lebanon

Macau Special Administrative Region

Malaysia

Maldives

Mongolia

Nepal

North Korea

Oman

Qatar

Saudi Arabia

Singapore

Sri Lanka

Syria

Taiwan

Thailand

United Arab Emirates

Yemen

Asia countries whose natives do not qualify for this year's diversity program: China (mainland-born), India, Pakistan, South Korea, Philippines, and Vietnam.

Europe

Albania

Andorra

Armenia

Austria

Azerbaijan

Belarus

Belgium

Bosnia and Herzegovina

Bulgaria

Croatia

Cyprus

Czech Republic

Denmark (including components and dependent areas overseas)

Estonia

Finland

France (including components and dependent areas overseas)

Georgia

Germany

Greece

Hungary

Iceland

Ireland

Italy

Kazakhstan

Kyrgyzstan

Latvia

Liechtenstein

Lithuania

Luxembourg

Macedonia, the Former Yugoslav Republic of

Malta

Moldova

Monaco

Netherlands (including components and dependent areas overseas)

Northern Ireland *

Norway

Poland

Portugal

Romania

Russia

San Marino

Slovakia

Slovenia

Spain

Sweden

Switzerland

Tajikistan

Turkey

Turkmenistan

Ukraine

Uzbekistan

Vatican City

Yugoslavia, Federal Republic of

European countries whose natives do not qualify for this year's diversity program: Great Britain (including Anguilla, Bermuda, British Virgin Islands, Cayman Islands, Falkland Islands, Gibraltar, Montserrat, Pitcairn, St. Helena, Turks and Caicos Islands.

*NOTE: For the purposes of the diversity program only, Northern Ireland is treated separately and DOES qualify for this year's program.

North America

Bahamas, The

In North America, natives of CANADA do not qualify for this year's diversity program.

Oceania

Australia (including components and dependent areas overseas)

Fiji

Kiribati

Marshall Islands

Micronesia, Federated States of

Nauru

New Zealand (including components and dependent areas overseas)

Palau

Papua New Guinea

Samoa

Solomon Islands

Tonga

Tuvalu

Vanuatu

South American, Central American, and the Caribbean

Antigua and Barbuda

Argentina

Barbados

Belize

Bolivia

Brazil

Chile

Costa Rica

Cuba

Dominica

Ecuador

Grenada

Guatemala

Guyana

Honduras

Nicaragua

Panama

Paraguay

Peru

St. Kitts and Nevis

St. Lucia

St. Vincent and the Grenadines

Suriname

Trinidad and Tobago

Uruguay

Venezuela

Countries in this region whose natives do not qualify for this year's diversity program: Colombia, Dominican Republic, El Salvador, Haiti, Jamaica and Mexico.

Notifying Successful Entrants

Only successful entrants will be notified. They will be notified by mail between April and July of 2003 at the address listed on their entry. Successful entrants will also be sent instructions on how to apply for an immigrant visa, including information on the fee for immigrant visas and a separate visa lottery surcharge. Successful entrants must complete the immigrant visa application process and meet all eligibility requirements under U.S. law to be issued a visa.

Being selected in the DV Lottery does not automatically guarantee issuance of a visa, even if the applicant is qualified, because the number of entries selected and registered is greater than the number of immigrant visas available. Those selected will, therefore, need to complete and file their immigrant visa applications quickly. Once all the diversity visas have been issued or on September 30, 2004, whichever is sooner, the DV Program for Fiscal Year 2004 will end.

Obtaining Instructions on Entering the DV Lottery

Interested persons may call (202) 331-7199, which describes the various means to obtain further details on entering the DV-2004 program. Applicants overseas may contact the nearest U.S. embassy or consulate for instructions on the DV lottery. DV information is also available in the Visa Bulletin, on the Internet at http://travel.state.gov or via the Consular Affairs automated fax at (202) 647-3000 (code 1103). Calls to the automated fax service must be made from a fax machine using the receiver or voice option of the caller's fax equipment.

George Lannon,
Acting Assistant Secretary for Consular Affairs, Department of State.

[FR Doc. 02-21411 Filed 8-20-02; 8:45 am]

BILLING CODE 4710-06-P